NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by February 26, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce A. Jatko at the above address or (703) 292-8030.

SUPPLEMENTARY INFORMATION: The National Science Foundation, as directed by the Antarctic Conservation Act of 1978 (Pub. L. 95-541), has developed regulations that implement the provisions of the Protocol on Environmental Protection to the Antarctic Treaty with respect to the conservation of Antarctic animals and plants in the Code of Federal Regulations Part 670. The regulations establish a permit system for certain actions which would otherwise be prohibited, including the introduction of non-indigenous species into Antarctica.

The applications received are as follows:

1. Applicant

H. William Detrich, Department of Biology, Northeastern University, 414 Mugar Hall, Boston, MA 02215.

Activity for Which Permit Is Requested

Introduce non-indigenous species into Antarctica. The applicant proposes using frozen fish tissues from species native to Patagonian Chile as bait (mixture of Macruronis magellanicus and Dissostichus eleginoides) in fishing traps/pots in the Antarctic Peninsula. The specimens collected will be taken to the Palmer Station aquarium facilities and used to study the biochemistry and molecular biology of Antarctic fishes. The applicant proposes to fish a maximum of 20 traps and estimates using a maximum of 20 blocks of frozen fish bait (10-15 kg).

Location

Antarctic Peninsula area in the vicinities of Low, Brabant, and Livingston Islands, as well as Dallman Bay.

Dates

April 5, 2003 to August 30, 2005.

Joyce A. Jatko,
Acting Permit Officer, Office of Polar Programs.

[FR Doc. 03-1760 Filed 1-24-03; 8:45 am]

BILLING CODE 7555-01-M